COMMITTEE FOR THE IMPLEMENTATION OF TEXTILE AGREEMENTS

Determination Under the Textile and Apparel Commercial Availability Provision of the Dominican Republic-Central America-United States Free Trade Agreement (CAFTA-DR Agreement)

August 14, 2007.

AGENCY: The Committee for the Implementation of Textile Agreements (CITA).

ACTION: Determination to add a product in unrestricted quantities to Annex 3.25 of the CAFTA-DR Agreement.

EFFECTIVE DATE: August 20, 2007.

SUMMARY: The Committee for the Implementation of Textile Agreements (CITA) has determined that certain raschel knit open work crepe fabrics, as specified below, are not available in commercial quantities in a timely manner in the CAFTA-DR region. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ON-LINE: http://web.ita.doc.gov/tacgi/CaftaReqTrack.nsf.Reference number: 31.2007.07.13.Fabric. SoriniSametforHansoll

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

Background:

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that this list may be modified pursuant to Article 3.25(4)-(5), when the President of the United States determines that a fabric, yarn, or fiber is not available in commercial quantities in a timely manner in the territory of any Party. The CAFTA-DR Act states that the President will make a determination on whether additional fabrics, yarns, and fibers are available in commercial quantities in a timely manner in the territory of any Party.

The CAFTA-DR Act requires the President to establish procedures governing the submission of a request and providing opportunity for interested entities to submit comments and supporting evidence before a commercial availability determination is made. In Presidential Proclamations 7987 and 7996, the President delegated to CITA the authority under section 203(o)(4) of the CAFTA-DR Act for modifying the Annex 3.25 list. On March 21, 2007, CITA published final procedures it would follow in considering requests to modify the Annex 3.25 list (72 FR 13256).

On July 13, 2007, the Chairman of CITA received a request from Sorini Samet & Associates, LLC, on behalf of their client, Hansoll Textile Ltd., for certain raschel knit open work crepe fabrics of the specifications detailed below. On July 17, 2007, CITA notified interested parties of, and posted on its website, the accepted request and requested that any interested entity provide, by July 27, 2007, a response advising of its objection to the request or its ability to supply the subject product, and rebuttals to responses by August 2, 2007.

No interested entity filed a response advising of its objection to the request or its ability to supply the subject product.

In accordance with Section 203(o)(4)(C)(iii)(II) of the CAFTA-DR Act, and its procedures, as no interested entity submitted a response objecting to the request or expressing an ability to supply the subject product, CITA has determined to add the specified fabrics to the list in Annex 3.25 of the CAFTA-DR Agreement.

The subject fabrics are added to the list in Annex 3.25 of the CAFTA-DR Agreement in unrestricted quantities. A revised list has been published on-line.

Specifications:

HTS Subheading: | 6005.42.00.10, 6005.44.00.10
Overall Fiber Content: | 73% viscose rayon/ 24% nylon/ 3% spandex
Constituent Yarns: |
| 1. 32/2 to 36/2 metric (18.9/2 to 21.2/2 english) spun viscose rayon
| 2. 163.7 to 152.4 metric (55 to 59 denier)/ 10 filament nylon
| 3. 43.3 to 42.9 metric (208 to 210 denier) spandex wrapped around 132 to 125 metric (68 to 72 denier) nylon
Machine Gauge: | 18
Number of Bars: | 16
Width: | Not less than 137cm (54 inches) cuttable for piece dyed goods; not less than 147.32 cm (58 inches) for printed goods
Weight: | 0.23kg per square meter (0.659 linear yards per lb.), plus or minus 5 percent
Coloration: | (Piece) dyed; printed

In addition, this fabric has a unique “blistered” face requiring each of the constituent yarns to be fed separately, with small, regular open-work interstices, representing about 15% of the total surface area.

R. Matthew Priest,
Chairman, Committee for the Implementation of Textile Agreements.

[FR Doc. E7-16323 Filed 8-17-07; 8:45 am]

BILLING CODE 3510-DS